INTERNATIONAL TRADE COMMISSION

[Investigation No. AA-1921-188 (Second Review)]

Prestressed Concrete Steel Wire Strand From Japan

Determination

On the basis of the record ¹ developed in the subject five-year review, the United States International Trade Commission determines, pursuant to section 751(c) of the Tariff Act of 1930 (19 U.S.C. 1675(c)) (the Act), that revocation of the antidumping finding on prestressed concrete steel wire strand from Japan would be likely to lead to continuation or recurrence of material injury to an industry in the United States within a reasonably foreseeable time.

¹ The record is defined in § 207.2(f) of the Commission's Rules of Practice and Procedure (19 CFR 207.2(f)).

Background

The Commission instituted this review on January 2, 2004 (69 FR 103), and determined on April 6, 2004, that it would conduct an expedited review (69 FR 21160, April 20, 2004).

The Commission transmitted its determination in this investigation to the Secretary of Commerce on June 7, 2004. The views of the Commission are contained in USITC Publication 3699 (June 2004), entitled Prestressed Concrete Steel Wire Strand from Japan: Investigation No. AA1921-188 (Second Review).

Issued: June 7, 2004.
By order of the Commission.
Marilyn R. Abbott,
Secretary to the Commission.

[FR Doc. 04-13248 Filed 6-10-04; 8:45 am]

BILLING CODE 7020-02-P